DEPARTMENT OF COMMERCE

National Oceanic and Atmospheric Administration

RIN 0648-XE537

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will convene a meeting of its Fishery Ecosystem Plan Team (Insular fisheries and Pelagic fisheries teams) and the Fishery Data Collection and Research Committee—Technical Committee (FDCRC-TC). The FEP Team will review the revised annual report to serve as the Stock Assessment and Fishery Evaluation (SAFE) Report for the Western Pacific region, conduct the evaluation of the 2015 catches to the 2015 Annual Catch Limits (ACL) for the coral reef, crustacean, and Territory bottomfish fisheries, and look at options for changing the current risk determination process and specification of optimum yield (OY). The FDCRC-TC will review the status of the data collection improvement efforts in the Western Pacific region and address the data collection gaps identified by the FEP Teams to support the monitoring of the fisheries in the SAFE report.

DATES: The FEP Team meeting will be held between 8:30 a.m. and 5 p.m. on April 11-13, 2016. The Insular and Pelagic Teams will have concurrent sessions from 8:30 a.m. on April 11, 2016 to 12 noon on April 12, 2016. A joint FEP Team session will be held from 1 p.m. on April 12, 2016 to 5 p.m. on April 13, 2016. The FDCRC-TC will be held on April 14-15, 2016. For specific times and agendas, see SUPPLEMENTARY INFORMATION.

ADDRESSES: The FEP Team and FDCRC-TC meetings will be held at the Ala Moana Hotel, 410 Atkinson Dr., Honolulu, HI 96814; phone (808) 956-4262. The Insular Fisheries Team concurrent session will be at the Carnation Room while the Pelagic Fisheries Team concurrent session will be at the Plumeria Room. The Joint FEP Team meeting will be at the Garden Lanai Room. The FDCRC-TC meeting will be at the Ilima Room.

FOR FURTHER INFORMATION CONTACT: Kitty M. Simonds, Executive Director, phone: (808) 522-8220.

SUPPLEMENTARY INFORMATION: Public comment periods will be provided throughout the agendas. The order in which agenda items are addressed may change. The meetings will run as late as necessary to complete scheduled business.

Agenda for FEP Team Meeting—Insular Fishery Concurrent Session

8:30 a.m.-5 p.m., Monday, April 11, 2016

1. Welcome and introductions

2. Approval of draft agenda, 2015 report & assignment of rapporteurs

3. Report on previous Plan Team recommendations and Council actions

4. 2015 Annual/SAFE Report

A. Fishery Performance

i. Insular fisheries modules

a. American Samoa

i. Coral reef fisheries

ii. Bottomfish fishery

iii. Crustacean fishery

iv. Precious coral fishery

b. Guam

i. Coral reef fisheries

ii. Bottomfish fishery

iii. Crustacean fishery

iv. Precious coral fishery

c. Commonwealth of Northern Mariana Islands (CNMI)

i. Coral reef fisheries

ii. Bottomfish fishery

iii. Crustacean fishery

iv. Precious coral fishery

d. Hawaii

i. Coral reef fisheries

ii. Bottomfish fishery

iii. Crustacean fishery

iv. Precious coral fishery

e. Pacific Island Remote Island Areas (PRIA)

i. Coral reef fisheries

ii. Bottomfish fishery

iii. Crustacean fishery

iv. Precious coral fishery

ii. Discussions

iii. Public Comment

B. Ecosystem Considerations

i. Protected species section

ii. Climate, ecosystems and biological section

a. Environmental & climate variables

b. Coral reef ecosystem variables

c. Life history and length-derived variables

iii. Habitat section

iv. Human dimension section

v. Marine Planning section

vi. Discussions

vii. Public Comment

C. Administrative Reports

i. Number of federal permits

ii. Regulatory actions in 2015

iii. Discussions

iv. Public Comment

Agenda for FEP Team Meeting—Pelagic/International Fishery Concurrent Session

8:30 a.m.-5 p.m., Monday, April 11, 2016

1. Welcome and introductions

2. Approval of draft agenda, 2015 report & assignment of rapporteurs

3. Report on previous Plan Team recommendations and Council actions

4. 2015 Annual/SAFE Report

A. Ecosystem Considerations

i. Climate change variables

ii. Habitat conditions

iii. Human dimensions

iv. Protected species

B. Fishery Performance

i. CNMI

ii. American Samoa

iii. Guam

iv. Hawaii

v. International

vi. Recreational

C. Discussion

D. 2015 annual report region-wide recommendations

E. Public Comment

Agenda for FEP Team Meeting—Insular Fishery Concurrent Session (continued)

8:30 a.m.-12 p.m., Tuesday, April 12, 2016

D. Facilitated discussion on dealing with data gaps and variable definitions

i. Fishery modules

ii. Ecosystem modules

E. Workshop discussion on data integration (Chapter 3)

F. Summary of annual report module action items

G. Discussions

H. Public Comment

Agenda for FEP Team Meeting—Pelagic/International Fishery Concurrent Session

8:30 a.m.-12 p.m., Tuesday, April 12, 2016

5. Continued discussion on Monday agenda items (if needed)

6. Other Pelagic FEP issues

A. Amendments

B. Other regulatory issues

7. Western Central Pacific Fishery Commission 12 Outcomes

8. Protected Species

A. Seabirds

B. Turtles

9. Discussion on CPUE variability with regards to the implementation of turtle mitigation measures in the AS longline fishery

10. Discussion

10. Public Comment

Agenda for the Joint Fishery Ecosystem Plan Team Meeting

1 p.m.-5 p.m., Tuesday, April 12, 2016

1. Welcome and introductions

2. Approval of the draft Joint meeting agenda, 2015 report, and assignment of rapporteurs

3. Plan Team 101 and Regional Operating Agreement (ROA)

4. Status of Fishery Ecosystem Plan revision

5. Monitoring and updating priorities

A. Council's 5-year research priorities—work item (process of monitoring the status of the research priorities)

B. Cooperative Research priorities

i. Regional Implementation Framework

ii. Revision of priorities to streamline with Magnuson-Stevens Act requirement

C. Pacific Island Fisheries Research Program

D. Discussions

E. Public Comment

8:30 a.m.-5 p.m., Wednesday, April 13, 2016

6. Action agenda items

A. Evaluating 2015 catches to its respective 2015 ACLs

i. Coral reef fisheries

ii. Crustacean fisheries

iii. Territory bottomfish fisheries

B. ACL specification process amendment

i. Method of risk determination

ii. ACL as OY

C. Ecosystem component designation criteria: changing Management Unit Species designation

D. Discussions

E. Public Comment

7. Workshop discussion on ecosystem and fishery data integration

A. Data availability

B. Initial data integration discussion

C. Developing integration workplan

D. Discussions

E. Public Comment

8. General Discussions

9. Fishery Ecosystem Plan Team Recommendations

10. Other Business

Agenda for FDCRC-TC Meeting

8:30 a.m.-5 p.m., Thursday, April 14, 2016

1. Welcome and introductions

2. Approval of draft agenda, 2015 report & assignment of rapporteurs

3. Report on previous FDCRC-TC recommendations and Council actions

4. Status of the data collection improvement efforts

A. American Samoa

B. Guam

C. CNMI

D. Hawaii

E. Marine Recreational Information Program and Territory Science Initiative Projects

F. Western Pacific Fishery Information Network Database Transition and Online Interface

G. Discussions

H. Public Comment

5. 2015 Annual/SAFE Report Recommendations

A. Overall Annual/SAFE Report Framework

i. Linkages with the on-the-ground data collection

ii. Timelines for data submission for Annual/SAFE Report

B. Discussion on Addressing Recommendations from the Fishery section

i. Insular fisheries modules

a. American Samoa

b. Guam

c. CNMI

d. Hawaii

ii. Ecosystem Considerations

a. Climate, ecosystems and biological section

b. Human dimension section

C. Discussions

D. Public Comment

6. Strategic Plan Monitoring

A. 2009 Data Workshop Recommendations and Status

B. Status of tasks for the FDCRC Strategic Plan

C. Grants and Funding Opportunity Matrix

D. Group discussion on status monitoring procedure

E. Discussions

F. Public Comment

8:30 a.m.-12 p.m., Friday, April 15, 2016

7. Improving the on-the-ground data collection

A. How much more do we need to collect: SHINY Database Analytics

B. BioSampling Program Review

C. Establishing Import-Export Database System

D. Discussions

E. Public Comment

8. General Discussions

9. FDCRC-TC Recommendations

10. Other Business

Non-emergency issues not contained in this agenda may come before the Council for discussion and formal Council action during its 163rd meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: March 23, 2016.
Tracey L. Thompson,
Acting Deputy Director, Office of Sustainable Fisheries, National Marine Fisheries Service.

[FR Doc. 2016-06897 Filed 3-25-16; 8:45 am]

BILLING CODE 3510-22-P